INTERNATIONAL TRADE COMMISSION

[Investigation No. 731-TA-451 (Second Review)]

Gray Portland Cement and Cement Clinker from Mexico

AGENCY: United States International Trade Commission.

ACTION: Notice of postponement of establishing a schedule for a full five-year review concerning the antidumping duty order on gray portland cement and cement clinker from Mexico.

SUMMARY: The Commission hereby gives notice that it has postponed establishing a schedule for a full review to determine whether revocation of the antidumping duty order on gray portland cement and cement clinker from Mexico would be likely to lead to continuation or recurrence of material injury within a reasonably foreseeable time. For further information concerning the rules of general application, consult the Commission's Rules of Practice and Procedure, part 201, subparts A through E (19 CFR part 201), and part 207, subparts A, D, E, and F (19 CFR part 207).

EFFECTIVE DATE: April 17, 2006.

FOR FURTHER INFORMATION CONTACT: Jim McClure (202-205-3191), Office of Investigations or Robin L. Turner (202-205-3103), Office of the General Counsel, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS) at http://edis.usitc.gov.

SUPPLEMENTARY INFORMATION: On October 3, 2005, the Commission instituted a five-year review concerning the antidumping duty order on gray portland cement and cement clinker from Mexico (70 F.R. 57617). On January 6, 2006, the Commission determined that it should proceed to a full review in the subject five-year review pursuant to section 751(c)(5) of the Act (71 F.R. 2957, January 18, 2006).

On March 6, 2006, the Office of the United States Trade Representative and the United States Department of Commerce (“Commerce”) entered into an agreement with the Secretaria de Economia of Mexico pertaining to imports of gray portland cement and clinker from Mexico (“Agreement”). The Agreement provides that, if Mexican Cement producers successfully abide by the terms of the Agreement for three years, the antidumping duty order will be revoked with respect to those producers. Pursuant to Section II.A.4.d. of the Mexican Cement Agreement, Commerce has “[s]uspended the 2005 Sunset Review of the Mexican Cement Order.” ¹ Thus, Commerce has not issued a schedule for conducting its 2005 Sunset Review, including setting a date when it intends to issue the final determination for its review. Accordingly, the Commission has postponed establishing a schedule in its related full five-year review until such time as Commerce issues a schedule or announces a final affirmative determination in its 2005 Sunset Review.

¹ Section I.V. of the Agreement defines “2005 Sunset Review” as “the five year review of the Mexican Cement Order under 19 U.S.C. 1675(c)) initiated by DOC on October 3, 2005.”

Authority: This notice is published pursuant to § 207.62 of the Commission's rules.

Issued: April 12, 2006.
By order of the Commission.
Marilyn R. Abbott,
Secretary to the Commission.

[FR Doc. E6-5660 Filed 4-14-06; 8:45 am]

BILLING CODE 7020-02-P